DEPARTMENT OF HOMELAND SECURITY

Coast Guard

33 CFR Parts 101 and 160

[Docket No. USCG-2022-0802]

RIN 1625-AC77

Cybersecurity in the Marine Transportation System

AGENCY: Coast Guard, DHS.

ACTION: Notice of proposed rulemaking; extension of the comment period.

SUMMARY: On February 22, 2024, the Coast Guard published a proposed rule in the Federal Register proposing to update maritime security regulations by adding regulations specifically focused on establishing minimum cybersecurity requirements for U.S.-flagged vessels, facilities on the Outer Continental Shelf, and U.S. facilities subject to regulations under the Maritime Transportation Security Act of 2002. The Coast Guard is extending the comment period for the proposed rulemaking for an additional 30 days through May 22, 2024, in response to requests for additional time. We invite comments on our proposed rulemaking.

DATES: The comment period for the proposed rulemaking published on February 22, 2024, at 89 FR 13404 is extended. Comments and related material must be received by the Coast Guard on or before May 22, 2024.

ADDRESSES: You may submit comments identified by docket number USCG-2022-0802 using the Federal eRulemaking Portal at https://www.regulations.gov. See the “Public Participation and Request for Comments” portion of the SUPPLEMENTARY INFORMATION section for further instructions on submitting comments.

FOR FURTHER INFORMATION CONTACT: For information about this document, email MTSCyberRule@uscg.mil or call Commander Brandon Link, Office of Port and Facility Compliance, 202-372-1107, or Commander Frank Strom, Office of Design and Engineering Standards, 202-372-1375.

SUPPLEMENTARY INFORMATION:

Public Participation and Request for Comments

The Coast Guard views public participation as essential to effective rulemaking and will consider all comments and material received during the comment period. Your comment can help shape the outcome of this rulemaking. If you submit a comment, please include the docket number for this rulemaking, indicate the specific section of this document to which each comment applies, and provide a reason for each suggestion or recommendation.

Submitting comments. We encourage you to submit comments through the Federal eRulemaking Portal at https://www.regulations.gov. If you cannot submit your material by using https://www.regulations.gov, call or email the person in the FOR FURTHER INFORMATION CONTACT section of this notice for alternate instructions. We review all comments received, but we will only post comments that address the topic of the proposed rule. We may choose not to post off-topic, inappropriate, or duplicate comments that we receive.

Personal information. We accept anonymous comments. All comments we post to https://www.regulations.gov will include any personal information you have provided. For more about privacy and submissions in response to this document, see the Department of Homeland Security's eRulemaking System of Records notice (85 FR 14226, March 11, 2020).

Background and Discussion

On February 22, 2024, the Coast Guard published a notice of proposed rulemaking, “Cybersecurity in the Marine Transportation System” (89 FR 13404). In the proposed rule, we propose to update the maritime security regulations by adding regulations specifically focused on establishing minimum cybersecurity requirements for U.S.-flagged vessels, facilities on the Outer Continental Shelf, and U.S. facilities subject to regulations under the Maritime Transportation Security Act of 2002. This proposed rule would help to address current and emerging cybersecurity threats in the marine transportation system. The proposed rule provided for a 60-day comment period, set to close on April 22, 2024.

The Coast Guard has received multiple requests to extend the comment period. The requesters cited the potentially significant impact of this rulemaking on the operations of affected owners and operators, and the need for additional time to adequately comment as reasons for the requested extension. In response to these requests, we have decided to extend the public comment period by 30 days. The comment period is now open through May 22, 2024.

This notice is issued under the authority of 46 U.S.C. 70124.

Dated: April 4, 2024.
W.R. Arguin,
Rear Admiral, U.S. Coast Guard, Assistant Commandant for Prevention Policy.

[FR Doc. 2024-07512 Filed 4-8-24; 8:45 am]

BILLING CODE 9110-04-P